Proclamation 9602 of April 28, 2017

Loyalty Day, 2017

By the President of the United States of America

A Proclamation

On Loyalty Day, we recognize and reaffirm our allegiance to the principles upon which our Nation is built. We pledge our dedication to the United States of America and honor its unique heritage, reminding ourselves that we are one Nation, under God, made possible by those who have sacrificed to defend our liberty. We honor our Republic and acknowledge the great responsibility that self-governance demands of each of us.

The United States stands as the world's leader in upholding the ideals of freedom, equality, and justice. Together, and with these fundamental concepts enshrined in our Constitution, our Nation perseveres in the face of those who would seek to harm it.

As one Nation, we will always stand strong against the threats of terrorism and lawlessness. The loyalty of our citizenry sends a clear signal to our allies and enemies that the United States will never yield from our way of life. Through the Department of Defense and other national security agencies, we are working to destroy ISIS, and to secure for all Americans the liberty terrorists seek to extinguish. We humbly thank our brave service members and veterans who have worn our Nation's uniform—from the American Revolution to the present day. Their unwavering loyalty and fidelity has made the world a safer, more free, and more just place. We are inspired by their pride in our country's principles, their devotion to our freedom, and their solemn pledge to protect and defend our Constitution against all enemies, foreign and domestic.

To express our country's loyalty to individual liberties, to limited government, and to the inherent dignity of every human being, the Congress, by Public Law 85-529 as amended, has designated May 1 of each year as “Loyalty Day.” On this day, we honor the United States of America and those who uphold its values, particularly those who have fought and continue to fight to defend the freedom it affords us.

NOW, THEREFORE, I, DONALD J. TRUMP, President of the United States of America, do hereby proclaim May 1, 2017, as Loyalty Day. This Loyalty Day, I call on all Americans to observe this day with appropriate ceremonies in our schools and other public places, including recitation of the Pledge of Allegiance to the Flag of the United States of America. I also call upon all Government officials to display the flag of the United States on all Government buildings and grounds on that day.

IN WITNESS WHEREOF, I have hereunto set my hand this twenty-eighth day of April, in the year of our Lord two thousand seventeen, and of the Independence of the United States of America the two hundred and forty-first.

[FR Doc. 2017-09082

Filed 5-2-17; 11:15 am]

Billing code 3295-F7-P